DEPARTMENT OF AGRICULTURE

National Agricultural Statistics Service

Notice of Meeting of Expert Panel on Publication of Farm Operator Demographics

AGENCY: National Agricultural Statistics Service, USDA.

ACTION: Notice of public meeting.

SUMMARY: The National Agricultural Statistics Service (NASS) announces a meeting of an Expert Panel on Publication of Farm Operator Demographic data obtained through the 2017 Census of Agriculture.

DATES: The Panel meeting will be held from 9 a.m. to 5 p.m. on Tuesday, May 16 and from 9 a.m. to 5 p.m. on Wednesday, May 17, 2017. There will be an opportunity for public comments at 9:15 a.m. on May 16, 2017.

ADDRESSES: The Panel meeting will take place in U.S. Department of Agriculture, National Agricultural Statistics Service, 1400 Independence Avenue SW., Room 6309, South Building, Washington, DC 20250. Written comments may be filed before or up to two weeks after the meeting with the contact person identified herein at: U.S. Department of Agriculture, National Agricultural Statistics Service, 1400 Independence Avenue SW., Room 6035, South Building, Washington, DC 20250-2001.

FOR FURTHER INFORMATION CONTACT: Linda J. Young, Director, Research and Development Division, telephone 202-690-0027, eFax: 855-593-5472, or email: hq_rdd_od@nass.usda.gov. General information about NASS can also be found at https://www.nass.usda.gov/About_NASS/index.

SUPPLEMENTARY INFORMATION: NASS will be convening a panel of subject matter experts covering a broad range of expertise and interests on May 16-17, 2017. This meeting will focus on six questions relating to the publication of demographic data obtained from the 2017 Census of Agriculture.

The expert panel is to consider the following questions:

(1) What demographic information should NASS publish on persons involved in making decisions for the farm or ranch operation?

(2) How does NASS address publications in light of the specific change from single principal operator to multiple persons responsible for decisions?

(3) How does NASS present to the data user the correct linkage from the 2017 Census of Agriculture data to data from earlier censuses?

(4) A Farm Typology is defined utilizing the designation of a single “principal operator” and is used by the USDA Economic Research Service (ERS) for analysis. NASS also publishes some Census of Agriculture tables based on this Farm Typology. How should NASS link the farm operator data to farm typology as used by ERS?

(5) The Census of Agriculture is integrated with the NASS Agricultural Resource Management Survey Phase 3 (ARMS3). Some of the analysis done by ERS is based on the “principal operator's” household. How should ERS identify the household for use in ARMS3?

(6) What new tables and data presentations are needed to publish data from the 2017 Census of Agriculture decision-making questions?

During this meeting, the panel will also consider statements provided by the public on data needs relating to demographics. The panel meeting is open to the public. The public is asked to preregister for the meeting at least 10 business days prior to the meeting. Your pre-registration must state the names of each person who will be attending from your group, organization, or interest represented; the number of people planning to give oral comments, if any; and whether anyone in your group requires special accommodations.

Submit registrations to hq_rdd_od@nass.usda.gov or USDA/NASS, 1400 Independence Avenue SW., Room 6035, South Building, Washington, DC 20250-2001. Members of the public who request to give oral comments to the Panel must arrive at the meeting site by 8:45 a.m. on Tuesday May 16, 2017. Oral comments should each be limited to five minutes or less. There have been 2 hours allotted for public comments. Written comments by attendees or other interested stakeholders will be welcomed for the public record before and up to two weeks following the meeting. Comments should be limited to 500 words or less. The public may file written comments by mail to USDA/NASS, Room 6035, 1400 Independence Avenue SW., South Building, Washington, DC 20250-2001. Written comments can also be sent via eFax: 855-593-5472, or email: hq_rdd_od@nass.usda.gov. All statements will become a part of the official records of the Panel meeting and will be kept on file for public review in the office of the Director, Research and Development Division.

Signed at Washington, DC, April 3, 2017.
R. Renee Picanso,
Associate Administrator, National Agricultural Statistics Service.

[FR Doc. 2017-07988 Filed 4-19-17; 8:45 am]

BILLING CODE 3410-20-P